DEPARTMENT OF ENERGY

Agency Information Collection Extension

AGENCY: U.S. Department of Energy.

ACTION: Notice of request for comments.

SUMMARY: The Department of Energy (DOE) invites public comments on a proposed collection of information that DOE is developing for submission to the Office of Management and Budget (OMB) pursuant to the Paperwork Reduction Act of 1995.

DATES: Comments regarding this proposed information collection must be received on or before August 7, 2025. If you anticipate that you will be submitting comments but find it difficult to do so within the period of time allowed by this notice, please advise the DOE Desk Officer at OMB of your intention to make a submission as soon as possible. The Desk Officer may be telephoned at (202) 395-4718.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Kara Podkaminer, Senior Adviser, Transportation and Fuels, Office of Energy Efficiency and Renewable Energy; 1000 Independence Avenue SW, Washington, DC 20585; 45y48eemissionsrequest@ee.doe.gov; (202) 586-5000.

SUPPLEMENTARY INFORMATION:

Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW;

(2) Information Collection Request Title: Greenhouse Gas Emissions Value Analysis;

(3) Type of Request: New Collection;

(4) Purpose: DOE seeks to collect information from electricity producers in order to provide such electricity producers with an emissions value that a qualifying facility may use to petition the Internal Revenue Service (IRS) for a Provisional Emissions Rate (PER) and claim the section 45Y or 48E tax credits. DOE will share relevant information collected with one or more National Laboratories as needed so those Laboratories can perform the required emissions analysis. Likely respondents include owners of electricity generating facilities or energy storage technology, as defined in 26 U.S.C. 45Y, 48E;

(5) Annual Estimated Number of Respondents: 20;

(6) Annual Estimated Number of Total Responses: 20;

(7) Annual Estimated Number of Burden Hours: 800;

(8) Annual Estimated Reporting and Recordkeeping Cost Burden: $77,368.

Statutory Authority: 26 U.S.C. 45Y, 48E; 26 CFR 1.45Y, 1.48E.

Signing Authority

This document of the Department of Energy was signed on July 3, 2025, by Louis Hrkman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 3, 2025.
Treena V. Garrett,
Federal Register Liaison Officer, U.S. Department of Energy.

[FR Doc. 2025-12676 Filed 7-7-25; 8:45 am]

BILLING CODE 6450-01-P